DEPARTMENT OF AGRICULTURE

Rural Housing Service

7 CFR Parts 1910, 1955, and 3560

[Docket No. RHS-24-MFH-0042]

RIN 0575-AD30

Multifamily Housing Program Update to the Credit Report Process

AGENCY: Rural Housing Service, U.S. Department of Agriculture (USDA).

ACTION: Final rule; delay of effective date.

SUMMARY: The Rural Housing Service (RHS or Agency), a Rural Development (RD) agency of the United States Department of Agriculture (USDA), published a final rule on December 31, 2024, to update its regulation on how credit reports are obtained for the purposes of determining eligibility and feasibility for Multifamily Housing (MFH) Programs. The effective date of that final rule was January 30, 2025. This document delays the effective date of the final rule by 60 days.

DATES: As of January 29, 2025, the effective date of the final rule published on December 31, 2024, at 89 FR 106977, is delayed until March 31, 2025.

FOR FURTHER INFORMATION CONTACT: Abby Boggs, Branch Chief, Program Support Branch, Production and Preservation Division, Multifamily Housing, Rural Development, U.S. Department of Agriculture, 1400 Independence Avenue SW, Washington, DC 20250, telephone: 615-490-1371; or email: Abby.Boggs@usda.gov.

SUPPLEMENTARY INFORMATION: In accordance with the memorandum of January 20, 2025, from the President to executive departments and agencies, entitled “Regulatory Freeze Pending Review,” this action temporarily delays the effective date of the rule entitled “Multifamily Housing Program Update to the Credit Report Process” published in the Federal Register on December 31, 2024, at 89 FR 106977. That rule made changes to 7 CFR part 3560 to require that in lieu of applicants and borrowers submitting credit report fees, the Agency will require applicants and borrowers to provide the credit report(s). The final rule also includes conforming changes to rescind 7 CFR part 1910, subparts B and C, and 7 CFR 1955.118, which are outdated.

This action is exempt from notice and comment under 5 U.S.C. 553 and is effective immediately upon publication in this issue of the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication.

Angilla Denton,
Acting Administrator, Rural Housing Service.

[FR Doc. 2025-01922 Filed 1-27-25; 11:15 am]

BILLING CODE 3410-XV-P